DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Pacific Albacore Logbook.

OMB Control Number: 0648-0223.

Form Number(s): NOAA Form 88-197.

Type of Request: Regular (extension of a currently approved information collection).

Number of Respondents: 1,000.

Average Hours per Response: 1 hour.

Burden Hours: 4,000.

Needs and Uses: This request is for extension of a currently approved collection.

U.S. fishermen, participating in the Pacific albacore tuna fishery, are required to obtain a Highly Migratory Species Fishery Management Plan and/or a High-Seas Fishery Compliance Act permit (under the authority of the Magnuson-Stevens Fishery Conservation and Management Council and/or the High Seas Fishing Compliance Act). A requirement for the permits is to complete and submit logbooks documenting their daily fishing activities, including catch and effort for each fishing trip. Submissions must be made within 30 days of the completion of a trip. The information obtained is used by the agency to assess the status of Pacific albacore stocks and to monitor the fishery.

Affected Public: Business or other for-profit organizations.

Frequency: Approximately four times per year.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: January 28, 2015.
Glenna Mickelson,
Management Analyst, Office of the Chief Information Officer.

[FR Doc. 2015-01896 Filed 1-30-15; 8:45 am]

BILLING CODE 3510-22-P